SOCIAL SECURITY ADMINISTRATION

[Docket No: SSA-2025-0003]

Agency Information Collection Activities: Proposed Request

The Social Security Administration (SSA) publishes a list of information collection packages requiring clearance by the Office of Management and Budget (OMB) in compliance with Public Law 104-13, the Paperwork Reduction Act of 1995, effective October 1, 1995. This notice includes a revisions and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

(SSA) Social Security Administration, OLCA, Attn: Reports Clearance Director, Mail Stop 3253 Altmeyer, 6401 Security Blvd., Baltimore, MD 21235, Fax: 833-410-1631, Email address: OR.Reports.Clearance@ssa.gov

Or you may submit your comments online through https://www.reginfo.gov/public/do/PRAmain by clicking on Currently under Review—Open for Public Comments and choosing to click on one of SSA's published items. Please reference Docket ID Number [SSA-2025-0003] in your submitted response.

I. The information collections below are pending at SSA. SSA will submit them to OMB within 60 days from the date of this notice. To be sure we consider your comments, we must receive them no later than April 14, 2025. Individuals can obtain copies of the collection instruments by writing to the above email address.

1. Statement of Claimant or Other Person—20 CFR 404.702 & 416.570—0960-0045. SSA uses Form SSA-795 in special situations where there is no authorized form or questionnaire, yet we require a signed statement from the applicant, claimant, or other individuals who have knowledge of facts, in connection with claims for Social Security benefits or Supplemental Security Income (SSI). The information we request on the SSA-795 is of sufficient importance that we need both a signed statement and a penalty clause. SSA uses this information to process, in addition to claims for benefits, issues about continuing eligibility; ongoing benefit amounts; use of funds by a representative payee; fraud investigation; and a myriad of other program-related matters. The most common respondents are applicants for Social Security, SSI, or recipients of these programs. However, respondents also include friends and relatives of the involved parties, coworkers, neighbors, or anyone else in a position to provide information pertinent to the issue(s).

Type of Request: Revision of an OMB-approved information collection.

Modality of completion | Number of respondents | Frequency of response | Average burden per response (minutes) | Estimated total annual burden (hours) | Average theoretical hourly cost amount (dollars) * | Average wait time in field office or telephone wait time (minutes) ** | Total annual opportunity cost (dollars) ***
SSA-795 Paper | 154,318 | 1 | 15 | 38,580 | * $22.39 | ** 23 | *** $2,188,287
SSA-795 (SSI CCE Interviews) | 22,516 | 1 | 15 | 5,629 | * 22.39 | ** 19 | *** 285,674
Totals | 176,834 |  |  | 44,208 |  |  | *** 2,473,961
* We based this figure on an average of the average DI payments based on SSA's current data (https://www.ssa.gov/legislation/2024FactSheet.pdf) and the average U.S. worker's hourly wages, as reported by Bureau of Labor Statistics data (https://www.bls.gov/oes/current/oes_nat.htm).
** We based these figures on the average FY 2025 wait times for field offices (23 minutes) and teleservice centers (19 minutes), based on SSA's current management information data.
*** This figure does not represent actual costs that SSA is imposing on recipients of Social Security payments to complete this application; rather, these are theoretical opportunity costs for the additional time respondents will spend to complete the application. There is no actual charge to respondents to complete the application.

2. Request for Reconsideration—Disability Cessation—20 CFR 404.909, 404.1597(b), 416.995, & 416.1409—0960-0349. When SSA determines that claimants' disabilities medically improved, ceased; or are no longer sufficiently disabling, these claimants may ask SSA to reconsider that determination. SSA uses Form SSA-789 to arrange for a hearing or prepare a decision based on the evidence of record. Specifically, claimants or their representatives use Form SSA-789 to: (1) ask SSA to reconsider a determination, (2) indicate if they wish to appear at a disability hearing, (3) submit any additional information or evidence for use in the reconsidered determination, and (4) indicate if they will need an interpreter for the hearing. The respondents are disability claimants for Social Security benefits or Supplemental Security Income (SSI) payments who wish to appeal an unfavorable disability cessation determination.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-789 | 72,796 | 1 | 10 | 12,133 | * $13.30 | ** 23 | *** $532,505
* We based this figure on an average of the average DI payments based on SSA's current data (https://www.ssa.gov/legislation/2024FactSheet.pdf).
** We based this figure on the average FY 2025 wait times for field offices, based on SSA's current management information data.
*** This figure does not represent actual costs that SSA is imposing on recipients of Social Security payments to complete this application; rather, these are theoretical opportunity costs for the additional time respondents will spend to complete the application. There is no actual charge to respondents to complete the application.

3. Travel Expense Reimbursement—20 CFR 404.999(d) and 416.1499—0960-0434. The Social Security Act (Act) provides for travel expense reimbursement from Federal and State agencies for claimant travel incidental to medical examinations, and to parties, their representatives, and all reasonably necessary witnesses for travel exceeding 75 miles to attend medical examinations, reconsideration interviews and proceedings before an administrative law judge. Reimbursement procedures require the claimant to provide: (1) a list of expenses incurred; and (2) receipts of such expenses. Federal and state personnel review the listings and receipts to verify the reimbursable amount to the requestor. The respondents are claimants for Title II benefits and Title XVI payments, their representatives, and witnesses.

Type of Request: Extension of an OMB-approved information collection.

Modality of completion | Number of respondents | Frequency of response | Average burden per response (minutes) | Estimated total annual burden (hours) | Average theoretical hourly cost amount (dollars) * | Average wait time in field office (minutes) ** | Total annual opportunity cost (dollars) ***
404.999(d) & 416.1499 | 60,000 | 1 | 10 | 10,000 | * $22.39 | ** 23 | *** $738,870
* We based this figure by averaging both the average DI payments based on SSA's current data (https://www.ssa.gov/legislation/2024FactSheet.pdf), and the average U.S. worker's hourly wages, as reported by Bureau of Labor Statistics data (https://www.bls.gov/oes/current/oes_nat.htm).
** We based this figure on the average FY 2025 wait times for field offices, based on SSA's current management information data.
** This figure does not represent actual costs that SSA is imposing on recipients of Social Security payments to complete this application; rather, these are theoretical opportunity costs for the additional time respondents will spend to complete the application. There is no actual charge to respondents to complete the application.

4. Permanent Residence in the United States Under Color of Law (PRUCOL)—20 CFR 416.1615 and 416.1618—0960-0451. Under 20 CFR 416.1415 and 416.1618 of the Code of Federal Regulations (Code), SSA requires claimants or recipients to submit evidence of their alien status when they apply for SSI payments, and periodically thereafter as part of the eligibility determination process for SSI. When SSA cannot verify evidence of alien status through the regular claimant interview process, SSA verifies the validity of the evidence of PRUCOL for grandfathered nonqualified aliens with the Department of Homeland Security (DHS) using the DHS Systemic Alien Verification for Entitlements (SAVE) program. SSA determines if the individual qualifies for PRUCOL status based on the SAVE program response. SSA does not maintain any forms or applications for respondents to use, rather, the regulations listed in 20 CFR 416.1615 and 416.1618 specify the information respondents need to submit to SSA to show evidence of PRUCOL. Without this information, SSA is unable to determine whether the PRUCOL individual is eligible for SSI payments. Respondents are qualified and unqualified aliens who apply for SSI payments under PRUCOL.

Type of Request: Extension of an OMB-approved information collection.

Modality of completion | Number of responses | Frequency of response | Average burden per response (minutes) | Estimated total annual burden (hours) | Average theoretical hourly cost amount (dollars) * | Average wait time in field office (minutes) ** | Total annual opportunity cost (dollars) ***
Personal Interview | 1,049 | 1 | 5 | 87 | * $31.48 | ** 23 | *** $15,394
* We based this figure on average U.S. worker's hourly wages, as reported by Bureau of Labor Statistics data (https://www.bls.gov/oes/current/oes_nat.htm#00-0000).
** We based this figure on the average FY 2025 wait times for field offices, based on SSA's current management information data.
*** This figure does not represent actual costs that SSA is imposing on recipients of Social Security payments to complete this application; rather, these are theoretical opportunity costs for the additional time respondents will spend to complete the application. There is no actual charge to respondents to complete the application.

5. Internet Request for Replacement of Forms SSA-1099/SSA-1042S—20 CFR 401.45—0960-0583. Title II beneficiaries use Forms SSA-1099 and SSA-1042S, Social Security Benefit Statement, to determine if their Social Security benefits are taxable, and the amount they need to report to the Internal Revenue Service. In cases where the original forms are unavailable (e.g., lost, stolen, mutilated), an individual may use SSA's automated telephone application to request a replacement SSA-1099 and SSA-1042. SSA uses the information from the automated telephone requests to verify the identity of the requestor and to provide replacement copies of the forms. SSA accepts information in other ways including via our mySocial Security portal (for which we collect no data after the authentication we collect under OMB No. 0960-0789), in person, and through the National 800 Number Network (N8NN). However, the automated telephone option reduces requests to the N8NN and visits to local Social Security field offices (FO). The respondents are Title II beneficiaries who wish to request a replacement SSA-1099 or SSA-1042S via telephone.

Type of Request: Revision of an OMB-approved information collection.

Modality of completion | Number of respondents | Frequency of response | Average burden per response (minutes) | Estimated total annual burden (hours) | Average theoretical hourly cost amount (dollars) * | Average wait time for teleservice centers (minutes) ** | Total annual opportunity cost (dollars) ***
Automated Telephone Requests | 316,000 | 1 | 6 | 31,600 | * $31.48 | ** 19 | *** $4,144,877
N8NN | 497,778 | 1 | 3 | 24,889 | * 31.48 | ** 19 | *** 5,745,698
Calls to local field offices | 848,444 | 1 | 3 | 42,422 | * 31.48 | ** 19 | *** 9,793,302
Other (program service centers) | 41,640 | 1 | 3 | 2,082 | * 31.48 | ** 21 | *** 524,331
Totals | 1,419,462 |  |  | 100,993 |  |  | *** 20,208,208
* We based this figure on average U.S. worker's hourly wages, as reported by Bureau of Labor Statistics data (https://www.bls.gov/oes/current/oes_nat.htm).
** We based this figure on the average FY 2025 wait times for SSA Teleservice centers (19 minutes) and field offices (23 minutes), based on SSA's current management information data.
*** This figure does not represent actual costs that SSA is imposing on recipients of Social Security payments to complete this application; rather, these are theoretical opportunity costs for the additional time respondents will spend to complete the application. There is no actual charge to respondents to complete the application.

6. Protecting the Public and Our Personnel to Ensure Operational Effectiveness (RIN 0960-AH35), Regulation 3729I—20 CFR 422.905 and 422.906—0960-0796. SSA published regulations for the process we follow when we restrict individuals from receiving in-person services in our field offices and provide them, instead, with alternative services. We published these rules to create a safer environment for our personnel and members of the public who use our facilities, while ensuring we continue to serve the American people with as little disruption to our operations as possible. Under our regulations at 20 CFR 422.905 of the Code, an individual for whom we restrict access to our facilities has the opportunity to appeal our decision within 60 days of the date of the restrictive access and alternative service notice. To appeal, restricted individuals must submit a written request via mail stating why they believe SSA should rescind the restriction and allow them to conduct business with us on a face-to-face basis in one of our offices. There is no printed form for this request; rather, restricted individuals create their own written statement of appeal, and submit it to a sole decision-maker in the regional office of the region where the restriction originated. The individuals may also provide additional documentation to support their appeal. Under 20 CFR 422.906 of the Code, if the individual does not appeal the decision within the 60 days, if we restricted the individual prior to the effective date of this regulation, or if the appeal results in a denial, the individual has another opportunity to request review of the restriction after a three-year period. To submit this request for review, restricted individuals may re-submit a written appeal of the decision. The same criteria apply as for the original appeal: (1) it must be in writing; (2) it must be sent to a sole decision-maker in the regional office of the region where the restriction originated for review; and (3) it may accompany supporting documentation. We make this periodic review available to all restricted individuals once every three years. Respondents for this collection are individuals appealing their restrictions from in-person services at SSA field offices.

Type of Request: Extension of an OMB-approved information collection.

Regulation section | Number of respondents | Frequency of response | Average burden per response (minutes) | Estimated total annual burden (hours) | Average theoretical hourly cost amount (dollars) * | Total annual opportunity cost (dollars) **
20 CFR 422.905 | 75 | 1 | 15 | 19 | * $22.39 | ** $425
20 CFR 422.906 | 75 | 1 | 20 | 25 | * 22.39 | ** 560
Totals | 150 |  |  | 44 |  | ** 885
* We based this figure by averaging both the average DI payments based on SSA's current data (https://www.ssa.gov/legislation/2024FactSheet.pdf), and the average U.S. worker's hourly wages, as reported by Bureau of Labor Statistics data (https://www.bls.gov/oes/current/oes_nat.htm).
** This figure does not represent actual costs that SSA is imposing on claimants of Social Security payments to complete this application; rather, these are theoretical opportunity costs for the additional time respondents will spend to complete the application. There is no actual charge to respondents to complete the application.

7. Social Security Administration Health IT Partner Program Assessment—Participating Facilities and Available Content Form—20 CFR 404.1614 and 416.1014—0960-0798. The Health Information Technology for Economic and Clinical Health (HITECH) Act promotes the adoption and meaningful use of health information technology (IT), particularly in the context of working with government agencies. Similarly, Section 3004 of the Public Health Service Act requires health care providers or health insurance issuers with government contracts to implement, acquire, or upgrade their health IT systems and products to meet adopted standards and implementation specifications. To support expansion of SSA's health IT initiative as defined under HITECH, SSA developed Form SSA-680, the Health IT Partner Program Assessment—participating Facilities and Available Content Form. The SSA-680 allows healthcare providers to provide the information that SSA needs to determine their ability to exchange health information with us electronically. We evaluate potential partners (i.e., healthcare providers and organizations) on: (1) the accessibility of health information they possess; and (2) the content value of their electronic health records' systems for our disability adjudication processes. SSA reviews the completeness of organizations' SSA-680 responses as one part of our careful analysis of their readiness to enter a health IT partnership with us. The respondents are healthcare providers and organizations exchanging information with the agency.

Type of Request: Revision of an OMB-approved information collection.

Modality of completion | Number of respondents | Frequency of response | Average burden per response (minutes) | Estimated total annual burden (hours) | Average theoretical hourly cost amount (dollars) * | Total annual opportunity cost (dollars) **
SSA-680 | 10 | 1 | 800 | 133 | * $49.07 | ** $6,526
* We based these figures on average Healthcare Practitioners and Technical Occupations, as reported by Bureau of Labor Statistics data (https://www.bls.gov/oes/current/oes290000.htm).
** This figure does not represent actual costs that SSA is imposing on recipients of Social Security payments to complete this application; rather, these are theoretical opportunity costs for the additional time respondents will spend to complete the application. There is no actual charge to respondents to complete the application.

Dated: February 2, 2025.
Naomi Sipple,
Reports Clearance Officer, Social Security Administration.

[FR Doc. 2025-02549 Filed 2-11-25; 8:45 am]

BILLING CODE 4191-02-P